DEPARTMENT OF HEALTH AND HUMAN SERVICES

Health Resources and Services Administration

Health Center Program

AGENCY: Health Resources and Services Administration, HHS.

ACTION: Notice of Noncompetitive Replacement Awards to Cornerstone Care, Inc.

SUMMARY: The Health Resources and Services Administration (HRSA) will be transferring Health Center Program (section 330 of the Public Health Service Act) New Access Point (NAP), Increased Demand for Service (IDS), and Capital Improvement Program (CIP) funds originally awarded to Community Medical Services to Cornerstone Care, Inc. to ensure the provision of critical primary health care services to underserved populations in Fayette County, Pennsylvania.

SUPPLEMENTARY INFORMATION:

Former Grantee of Record: Community Medical Services.

Original Period of Grant Support: March 1, 2009 to February 28, 2011 (NAP); March 27, 2009 to March 26, 2011 (IDS); and June 29, 2009 to June 28, 2011 (CIP).

Replacement Awardee: Cornerstone Care, Inc.

Amount of Replacement Awards: $391,306 (NAP), $101,000 (IDS) and $250,000 (CIP).

Period of Replacement Awards: The period of support for the replacement awards is March 1, 2009 to February 28, 2011 (NAP); March 27, 2009 to March 26, 2011 (IDS); and June 29, 2009 to June 28, 2011 (CIP).

Authority: Section 330 of the Public Health Service Act, 42 U.S.C. 245b.

CFDA Number: 93.703.

Justification for the Exception to Competition:

The former grantee, Community Medical Services (CMS), Inc., is unable to meet several Health Center Program statutory and regulatory requirements. CMS notified HRSA that it was unable to carry out the administrative and programmatic requirements to appropriately manage the grant funds and indicated that it would be relinquishing the grant funds. CMS's inability to meet these requirements has restricted it from providing necessary primary health care services in Fayette County, Pennsylvania, to the more than 10,500 low income, underserved and uninsured individuals in the service area, as had been proposed in their approved New Access Point grant application.

Cornerstone Care Inc. (CCI) is an experienced provider of care and is currently providing primary health care services under a contractual agreement with CMS to the original target population, has a demonstrated record of compliance with the Health Center Program statutory and regulatory requirements and is located in the same geographical area.

This underserved target population has an immediate need for vital primary health care services and would be negatively impacted by any delay or disruption of services caused by a competition. As a result, in order to ensure that critical primary health care services remain available to the original target population without disruption, this replacement award will not be competed.

FOR FURTHER INFORMATION CONTACT: Marquita Cullom-Stott via e-mail at MCullom-Stott@hrsa.gov or 301-594-4300.

Dated: April 16, 2010.
Marcia K. Brand,
Deputy Administrator.

[FR Doc. 2010-9308 Filed 4-21-10; 8:45 am]

BILLING CODE 4165-15-P